DEPARTMENT OF DEFENSE

Office of the Secretary

[Transmittal No. 25-1Q]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-1Q.

Dated: February 5, 2026.
Stephanie J. Bost,
Alternate OSD Federal Register Liaison Officer, Department of Defense.

BILLING CODE 6001-FR-P

BILLING CODE 6001-FR-C

Transmittal No. 25-1Q

REPORT OF ENHANCEMENT OR UPGRADE OF SENSITIVITY OF TECHNOLOGY OR CAPABILITY (SEC. 36(B)(5)(C), AECA)

(i) Prospective Purchaser: Government of the United Kingdom

(ii) Sec. 36(b)(1), AECA Transmittal No.: 18-40

Date: October 19, 2018

Implementing Agency: Army

(iii) Description: On October 19, 2018, Congress was notified by congressional certification transmittal number 18-40 of the possible sale, under Section 36(b)(1) of the Arms Export Control Act, of sixteen (16) H-47 Chinook (Extended Range) helicopters; thirty-six (36) T-55-GA-714A engines (32 installed, 4 spares); forty-eight (48) embedded GPS inertial navigation units (32 installed, 16 spares); twenty (20) common missile warning systems (16 installed, 4 spares); twenty-two (22) radio-frequency countermeasures (16 installed, 6 spares); nineteen (19) multi-mode radars (16 installed, 3 spares); nineteen (19) electrooptical sensor systems (16 installed, 3 spares); forty (40) M-134D-T miniguns, plus mounts and tools (32 installed, 8 spares); and forty (40) M240H machine guns, plus mounts and tools (32 installed, 8 spares). The following non-Major Defense Equipment (MDE) items were also included: communications equipment; navigation equipment; aircraft survivability equipment; initial training equipment and services; synthetic training equipment; support package including spares and repair parts; special tools and test equipment; aviation ground support equipment; safety and air worthiness certification; technical support; maintenance support; technical and aircrew publications; mission planning system equipment and support; project management and governance; United States (U.S.) Government and contractor engineering and logistics support services; and other related elements of logistics and program support. The estimated total program cost was $3.5 billion. MDE constituted $1.655 billion of this total.

On March 12, 2024, Congress was notified by congressional certification transmittal number 24-0B, under Section 36(b)(5)(C) of the Arms Export Control Act, of the inclusion of the following MDE items: seventeen (17) Common Infrared Countermeasure (CIRCM) Systems; seventeen (17) Limited Missile Warning Receiver Systems (LIMWS); and seventeen (17) Degraded Visual Environment Pilotage Systems (DVEPS). The following non-MDE item was also included: Man-Portable Night Vision Devices. The estimated total value of these new items was $162 million, but this addition did not cause an increase in the total case value. The estimated total case value remained at $3.5 billion. MDE remained at $1.655 billion of this total.

This transmittal notifies the inclusion of the following additional MDE items: five (5) DVEPS. The estimated total value of the new items is $3.06 million and does not result in a net increase in the total case value. The estimated total case value remains at $3.5 billion. MDE continues to constitute $1.655 billion of this total.

(iv) Significance: The proposed sale will enhance the United Kingdom's capabilities to provide national defense and contribute to NATO and coalition operations.

(v) Justification: This proposed sale will support the foreign policy and national security objectives of the U.S. by improving the security of a key NATO Ally that is an important force for political stability and economic progress in Europe.

(vi) Sensitivity of Technology:

DVEPS provides overmatch by providing increased situational awareness to the aircrew in degraded visual environment (DVE) conditions, such as brownout, allowing special operations aviation assets to execute missions in nearly any environmental condition. DVEPS utilizes using three-dimensional (3D) imaging technology. DVEPS produces imagery, 3D conformal symbology, and system alerts to aid pilots in maintaining spatial awareness during and after transition from visual meteorological conditions (VMC) to DVE conditions. DVEPS includes a synthetic vision avionics backbone (SVAB), light detection and ranging (LiDAR) system, removable storage device, infrared camera, power distribution unit, and inertial measurement unit.

The Sensitivity of Technology Statement contained in the original notification applies to additional items mentioned.

The highest level of classification of defense articles, components, and services included in this potential sale is SECRET.

(vii) Date Report Delivered to Congress: December 31, 2025

[FR Doc. 2026-02532 Filed 2-6-26; 8:45 am]

BILLING CODE 6001-FR-P